ENVIRONMENTAL PROTECTION AGENCY

[EPA-HQ-OPPT-2018-0504; FRL-12481-03-OCSPP]

Dicyclohexyl Phthalate (DCHP); Draft Risk Evaluation Under the Toxic Substances Control Act (TSCA); Notice of Availability and Request for Comment; Reopening of Comment Period

AGENCY: Environmental Protection Agency (EPA).

ACTION: Notice; reopening of comment period.

SUMMARY: In the Federal Register of January 7, 2025, EPA announced the availability of and solicited public comment on a draft risk evaluation under the Toxic Substances Control Act (TSCA) for Dicyclohexyl phthalate (DCHP) (1,2-benzenedicarboxylic acid, 1,2-dicyclohexyl ester) (CASRN 84-61-7). This document reopens the comment period, which is scheduled to end on March 10, 2025, for 60 days.

DATES: The comment period for the document published on January 7, 2025, at 90 FR 1125 (FRL-12481-01-OCSPP) is reopened. Comments must be received on or before May 9, 2025.

ADDRESSES: Submit your comments, identified by ID number EPA-HQ-OPPT-2018-0504, online at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT:

Chemical specific information: Claire Brisse, Existing Chemical Risk Management Division (7404M), Office of Pollution Prevention and Toxics, Environmental Protection Agency, 1200 Pennsylvania Ave. NW, Washington, DC 20460-0001; telephone number: (202) 564-9004; email address: brisse.claire@epa.gov.

General information: The TSCA-Hotline, ABVI-Goodwill, 422 South Clinton Ave., Rochester, NY 14620; telephone number: (202) 554-1404; email address: TSCA-Hotline@epa.gov.

SUPPLEMENTARY INFORMATION: To give stakeholders additional time to review materials and prepare comments, EPA is hereby reopening the comment period established in the Federal Register document of January 7, 2025, at 90 FR 1125 (FRL-12481-01-OCSPP) for 60 days. More information on the action can be found in the Federal Register of January 7, 2025.

To submit comments or access the docket, please follow the detailed instructions provided under ADDRESSES. If you have questions, consult the technical person listed under FOR FURTHER INFORMATION CONTACT.

Authority: 15 U.S.C. 2601 et seq.

Dated: March 10, 2025.
Nancy Beck,
Principal Deputy Assistant Administrator, Office of Chemical Safety and Pollution Prevention.

[FR Doc. 2025-03977 Filed 3-12-25; 8:45 am]

BILLING CODE 6560-50-P